NUCLEAR REGULATORY COMMISSION

[NRC-2017-0175]

Biweekly Notice: Applications and Amendments to Facility Operating Licenses and Combined Licenses Involving No Significant Hazards Considerations

AGENCY: Nuclear Regulatory Commission.

ACTION: Biweekly notice.

SUMMARY: Pursuant to Section 189a. (2) of the Atomic Energy Act of 1954, as amended (the Act), the U.S. Nuclear Regulatory Commission (NRC) is publishing this regular biweekly notice. The Act requires the Commission to publish notice of any amendments issued, or proposed to be issued, and grants the Commission the authority to issue and make immediately effective any amendment to an operating license or combined license, as applicable, upon a determination by the Commission that such amendment involves no significant hazards consideration, notwithstanding the pendency before the Commission of a request for a hearing from any person.

This biweekly notice includes all notices of amendments issued, or proposed to be issued, from July 18 to July 31, 2017. The last biweekly notice was published on August 1, 2017.

DATES: Comments must be filed by September 14, 2017. A request for a hearing must be filed by October 16, 2017.

ADDRESSES: You may submit comments by any of the following methods:

• Federal Rulemaking Web site: Go to http://www.regulations.gov and search for Docket ID NRC-2017-0175. Address questions about NRC dockets to Carol Gallagher; telephone: 301-415-3463; email: Carol.Gallagher@nrc.gov. For technical questions, contact the individual listed in the FOR FURTHER INFORMATION CONTACT section of this document.

• Mail comments to: Cindy Bladey, Office of Administration, Mail Stop: TWFN-8-D36M, U.S. Nuclear Regulatory Commission, Washington, DC 20555-0001.

For additional direction on obtaining information and submitting comments, see “Obtaining Information and Submitting Comments” in the SUPPLEMENTARY INFORMATION section of this document.

FOR FURTHER INFORMATION CONTACT: Beverly Clayton, Office of Nuclear Reactor Regulation, U.S. Nuclear Regulatory Commission, Washington, DC 20555-0001; telephone: 301-415-3475, email: Beverly.Clayton@nrc.gov.

SUPPLEMENTARY INFORMATION:

I. Obtaining Information and Submitting Comments

A. Obtaining Information

Please refer to Docket ID NRC-2017-0175, facility name, unit number(s), plant docket number, application date, and subject, when contacting the NRC about the availability of information for this action. You may obtain publicly-available information related to this action by any of the following methods:

• Federal Rulemaking Web site: Go to http://www.regulations.gov and search for Docket ID NRC-2017-0175.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• NRC's PDR: You may examine and purchase copies of public documents at the NRC's PDR, Room O1-F21, One White Flint North, 11555 Rockville Pike, Rockville, Maryland 20852.

B. Submitting Comments

Please include Docket ID NRC-2017-0175, facility name, unit number(s), plant docket number, application date, and subject, in your comment submission.

The NRC cautions you not to include identifying or contact information that you do not want to be publicly disclosed in your comment submission. The NRC posts all comment submissions at http://www.regulations.gov as well as entering the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Notice of Consideration of Issuance of Amendments to Facility Operating Licenses and Combined Licenses and Proposed No Significant Hazards Consideration Determination

The Commission has made a proposed determination that the following amendment requests involve no significant hazards consideration. Under the Commission's regulations in § 50.92 of title 10 of the Code of Federal Regulations (10 CFR), this means that operation of the facility in accordance with the proposed amendment would not (1) involve a significant increase in the probability or consequences of an accident previously evaluated, or (2) create the possibility of a new or different kind of accident from any accident previously evaluated; or (3) involve a significant reduction in a margin of safety. The basis for this proposed determination for each amendment request is shown below.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period if circumstances change during the 30-day comment period such that failure to act in a timely way would result, for example in derating or shutdown of the facility. If the Commission takes action prior to the expiration of either the comment period or the notice period, it will publish in the Federal Register a notice of issuance. If the Commission makes a final no significant hazards consideration determination, any hearing will take place after issuance. The Commission expects that the need to take this action will occur very infrequently.

A. Opportunity To Request a Hearing and Petition for Leave To Intervene

Within 60 days after the date of publication of this notice, any persons (petitioner) whose interest may be affected by this action may file a request for a hearing and petition for leave to intervene (petition) with respect to the action. Petitions shall be filed in accordance with the Commission's “Agency Rules of Practice and Procedure” in 10 CFR part 2. Interested persons should consult a current copy of 10 CFR 2.309. The NRC's regulations are accessible electronically from the NRC Library on the NRC's Web site at http://www.nrc.gov/reading-rm/doc-collections/cfr/. Alternatively, a copy of the regulations is available at the NRC's Public Document Room, located at One White Flint North, Room O1-F21, 11555 Rockville Pike (first floor), Rockville, Maryland 20852. If a petition is filed, the Commission or a presiding officer will rule on the petition and, if appropriate, a notice of a hearing will be issued.

As required by 10 CFR 2.309(d) the petition should specifically explain the reasons why intervention should be permitted with particular reference to the following general requirements for standing: (1) The name, address, and telephone number of the petitioner; (2) the nature of the petitioner's right under the Act to be made a party to the proceeding; (3) the nature and extent of the petitioner's property, financial, or other interest in the proceeding; and (4) the possible effect of any decision or order which may be entered in the proceeding on the petitioner's interest.

In accordance with 10 CFR 2.309(f), the petition must also set forth the specific contentions which the petitioner seeks to have litigated in the proceeding. Each contention must consist of a specific statement of the issue of law or fact to be raised or controverted. In addition, the petitioner must provide a brief explanation of the bases for the contention and a concise statement of the alleged facts or expert opinion which support the contention and on which the petitioner intends to rely in proving the contention at the hearing. The petitioner must also provide references to the specific sources and documents on which the petitioner intends to rely to support its position on the issue. The petition must include sufficient information to show that a genuine dispute exists with the applicant or licensee on a material issue of law or fact. Contentions must be limited to matters within the scope of the proceeding. The contention must be one which, if proven, would entitle the petitioner to relief. A petitioner who fails to satisfy the requirements at 10 CFR 2.309(f) with respect to at least one contention will not be permitted to participate as a party.

Those permitted to intervene become parties to the proceeding, subject to any limitations in the order granting leave to intervene. Parties have the opportunity to participate fully in the conduct of the hearing with respect to resolution of that party's admitted contentions, including the opportunity to present evidence, consistent with the NRC's regulations, policies, and procedures.

Petitions must be filed no later than 60 days from the date of publication of this notice. Petitions and motions for leave to file new or amended contentions that are filed after the deadline will not be entertained absent a determination by the presiding officer that the filing demonstrates good cause by satisfying the three factors in 10 CFR 2.309(c)(1)(i) through (iii). The petition must be filed in accordance with the filing instructions in the “Electronic Submissions (E-Filing)” section of this document.

If a hearing is requested, and the Commission has not made a final determination on the issue of no significant hazards consideration, the Commission will make a final determination on the issue of no significant hazards consideration. The final determination will serve to establish when the hearing is held. If the final determination is that the amendment request involves no significant hazards consideration, the Commission may issue the amendment and make it immediately effective, notwithstanding the request for a hearing. Any hearing would take place after issuance of the amendment. If the final determination is that the amendment request involves a significant hazards consideration, then any hearing held would take place before the issuance of the amendment unless the Commission finds an imminent danger to the health or safety of the public, in which case it will issue an appropriate order or rule under 10 CFR part 2.

A State, local governmental body, Federally-recognized Indian Tribe, or agency thereof, may submit a petition to the Commission to participate as a party under 10 CFR 2.309(h)(1). The petition should state the nature and extent of the petitioner's interest in the proceeding. The petition should be submitted to the Commission no later than 60 days from the date of publication of this notice. The petition must be filed in accordance with the filing instructions in the “Electronic Submissions (E-Filing)” section of this document, and should meet the requirements for petitions set forth in this section, except that under 10 CFR 2.309(h)(2) a State, local governmental body, or federally recognized Indian Tribe, or agency thereof does not need to address the standing requirements in 10 CFR 2.309(d) if the facility is located within its boundaries. Alternatively, a State, local governmental body, Federally-recognized Indian Tribe, or agency thereof may participate as a non-party under 10 CFR 2.315(c).

If a hearing is granted, any person who is not a party to the proceeding and is not affiliated with or represented by a party may, at the discretion of the presiding officer, be permitted to make a limited appearance pursuant to the provisions of 10 CFR 2.315(a). A person making a limited appearance may make an oral or written statement of his or her position on the issues but may not otherwise participate in the proceeding. A limited appearance may be made at any session of the hearing or at any prehearing conference, subject to the limits and conditions as may be imposed by the presiding officer. Details regarding the opportunity to make a limited appearance will be provided by the presiding officer if such sessions are scheduled.

B. Electronic Submissions (E-Filing)

All documents filed in NRC adjudicatory proceedings, including a request for hearing and petition for leave to intervene (petition), any motion or other document filed in the proceeding prior to the submission of a request for hearing or petition to intervene, and documents filed by interested governmental entities that request to participate under 10 CFR 2.315(c), must be filed in accordance with the NRC's E-Filing rule (72 FR 49139; August 28, 2007, as amended at 77 FR 46562, August 3, 2012). The E-Filing process requires participants to submit and serve all adjudicatory documents over the internet, or in some cases to mail copies on electronic storage media. Detailed guidance on making electronic submissions may be found in the Guidance for Electronic Submissions to the NRC and on the NRC's Web site at http://www.nrc.gov/site-help/e-submittals.html. Participants may not submit paper copies of their filings unless they seek an exemption in accordance with the procedures described below.

To comply with the procedural requirements of E-Filing, at least 10 days prior to the filing deadline, the participant should contact the Office of the Secretary by email at hearing.docket@nrc.gov, or by telephone at 301-415-1677, to (1) request a digital identification (ID) certificate, which allows the participant (or its counsel or representative) to digitally sign submissions and access the E-Filing system for any proceeding in which it is participating; and (2) advise the Secretary that the participant will be submitting a petition or other adjudicatory document (even in instances in which the participant, or its counsel or representative, already holds an NRC-issued digital ID certificate). Based upon this information, the Secretary will establish an electronic docket for the hearing in this proceeding if the Secretary has not already established an electronic docket.

Information about applying for a digital ID certificate is available on the NRC's public Web site at http://www.nrc.gov/site-help/e-submittals/getting-started.html. Once a participant has obtained a digital ID certificate and a docket has been created, the participant can then submit adjudicatory documents. Submissions must be in Portable Document Format (PDF). Additional guidance on PDF submissions is available on the NRC's public Web site at http://www.nrc.gov/site-help/electronic-sub-ref-mat.html. A filing is considered complete at the time the document is submitted through the NRC's E-Filing system. To be timely, an electronic filing must be submitted to the E-Filing system no later than 11:59 p.m. Eastern Time on the due date. Upon receipt of a transmission, the E-Filing system time-stamps the document and sends the submitter an email notice confirming receipt of the document. The E-Filing system also distributes an email notice that provides access to the document to the NRC's Office of the General Counsel and any others who have advised the Office of the Secretary that they wish to participate in the proceeding, so that the filer need not serve the document on those participants separately. Therefore, applicants and other participants (or their counsel or representative) must apply for and receive a digital ID certificate before adjudicatory documents are filed so that they can obtain access to the documents via the E-Filing system.

A person filing electronically using the NRC's adjudicatory E-Filing system may seek assistance by contacting the NRC's Electronic Filing Help Desk through the “Contact Us” link located on the NRC's public Web site at http://www.nrc.gov/site-help/e-submittals.html, by email to MSHD.Resource@nrc.gov, or by a toll-free call at 1-866-672-7640. The NRC Electronic Filing Help Desk is available between 9 a.m. and 6 p.m., Eastern Time, Monday through Friday, excluding government holidays.

Participants who believe that they have a good cause for not submitting documents electronically must file an exemption request, in accordance with 10 CFR 2.302(g), with their initial paper filing stating why there is good cause for not filing electronically and requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, 11555 Rockville Pike, Rockville, Maryland, 20852, Attention: Rulemaking and Adjudications Staff. Participants filing adjudicatory documents in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in the NRC's electronic hearing docket which is available to the public at https://adams.nrc.gov/ehd, unless excluded pursuant to an order of the Commission or the presiding officer. If you do not have an NRC-issued digital ID certificate as described above, click cancel when the link requests certificates and you will be automatically directed to the NRC's electronic hearing dockets where you will be able to access any publicly available documents in a particular hearing docket. Participants are requested not to include personal privacy information, such as social security numbers, home addresses, or personal phone numbers in their filings, unless an NRC regulation or other law requires submission of such information. For example, in some instances, individuals provide home addresses in order to demonstrate proximity to a facility or site. With respect to copyrighted works, except for limited excerpts that serve the purpose of the adjudicatory filings and would constitute a Fair Use application, participants are requested not to include copyrighted materials in their submission.

For further details with respect to these license amendment applications, see the application for amendment which is available for public inspection in ADAMS and at the NRC's PDR. For additional direction on accessing information related to this document, see the “Obtaining Information and Submitting Comments” section of this document.

Arizona Public Service Company, et al., Docket Nos. STN 50-528, STN 50-529, and STN 50-530, Palo Verde Nuclear Generating Station, Units 1, 2, and 3 (PVNGS), Maricopa County, Arizona

Date of amendment request: June 22, 2017. A publicly-available version is in ADAMS under Accession No. ML17173A877.

Description of amendment request: The amendment would revise the PVNGS Technical Specifications (TSs) to eliminate TS Section 5.5.8, “Inservice Testing Program.” A new defined term, “Inservice Testing Program,” will be added to the TS definitions section. This request is consistent with Technical Specification Task Force (TSTF) Traveler TSTF-545, Revision 3, “TS Inservice Testing Program Removal & Clarify SR [Surveillance Requirement] Usage Rule Application to Section 5.5 Testing.” The proposed change eliminates the PVNGS TS, Section 5.5.8, to remove requirements duplicated in the American Society of Mechanical Engineers Code for Operations and Maintenance of Nuclear Power Plants (ASME OM Code) Code Case OMN-20, “Inservice Test Frequency.”

Basis for proposed no significant hazards consideration determination: As required by 10 CFR 50.91(a), the licensee has provided its analysis of the issue of no significant hazards consideration, which is presented below:

1. Does the proposed amendment involve a significant increase in the probability or consequences of an accident previously evaluated?

Response: No.

The proposed change revises Chapter 5, Administrative Controls, Section 5.5, Programs and Manuals, by eliminating the Inservice Testing Program specification. Requirements in the IST [Inservice Testing] Program are removed, as they are duplicative of requirements in the ASME OM Code, as clarified by Code Case OMN-20, Inservice Test Frequency. Other requirements in Section 5.5.8, Inservice Testing Program are eliminated because the NRC has determined their inclusion in the TS is contrary to regulations. A new defined term, Inservice Testing Program, is added which references the requirements of 10 CFR 50.55a(f).

Performance of inservice testing is not an initiator to any accident previously evaluated. As a result, the probability of occurrence of an accident is not significantly affected by the proposed change. Inservice test periods under Code Case OMN-20 are equivalent to the current testing period allowed by the TS with the exception that testing periods greater than two years may be extended by up to six months to facilitate test scheduling and consideration of plant operating conditions that may not be suitable for performance of the required testing. The testing period extension will not affect the ability of the components to mitigate any accident previously evaluated as the components are required to be operable during the testing period extension. Performance of inservice tests utilizing the allowances in Code Case OMN-20 will not significantly affect the reliability of the tested components. As a result, the availability of the affected components, as well as their ability to mitigate the consequences of accidents previously evaluated, is not affected.

Therefore, the proposed change does not involve a significant increase in the probability or consequences of an accident previously evaluated.

2. Does the proposed amendment create the possibility of a new or different kind of accident from any accident previously evaluated?

Response: No.

The proposed change does not alter the design or configuration of the plant. The proposed change does not involve a physical alteration of the plant; no new or different kind of equipment will be installed. The proposed change does not alter the types of inservice testing performed. In most cases, the frequency of inservice testing is unchanged. However, the frequency of testing would not result in a new or different kind of accident from any previously evaluated since the testing methods are not altered.

Therefore, the proposed change does not create the possibility of a new or different kind of accident from any accident previously evaluated.

3. Does the proposed amendment involve a significant reduction in a margin of safety?

Response: No.

The proposed change eliminates some requirements from the TS in lieu of requirements in the ASME Code, as modified by use of Code Case OMN-20. Compliance with the ASME Code is required by 10 CFR 50.55a. The proposed change also allows inservice tests with periods greater than two years to be extended by six months to facilitate test scheduling and consideration of plant operating conditions that may not be suitable for performance of the required testing. The testing period extension will not affect the ability of the components to respond to an accident as the components are required to be operable during the testing period extension. The proposed change will eliminate the existing TS SR 3.0.3 allowance to defer performance of missed inservice tests up to the duration of the specified testing period, and instead will require an assessment of the missed test on equipment operability. This assessment will consider the effect on a margin of safety (equipment operability). Should the component be inoperable, the Technical Specifications provide actions to ensure that the margin of safety is protected. The proposed change also eliminates a statement that nothing in the ASME Code should be construed to supersede the requirements of any TS. The NRC has determined that statement to be incorrect. However, elimination of the statement will have no effect on plant operation or safety.

Therefore, the proposed change does not involve a significant reduction in a margin of safety.

The NRC staff has reviewed the licensee's analysis and, based on that review, it appears that the three standards of 10 CFR 50.92(c) are satisfied. Therefore, the NRC staff proposes to determine that the request for amendments involves no significant hazards consideration.

Attorney for licensee: Michael G. Green, Senior Regulatory Counsel, Pinnacle West Capital Corporation, P.O. Box 52034, Mail Station 8695, Phoenix, AZ 85072-2034.

NRC Branch Chief: Robert J. Pascarelli.

Entergy Nuclear Operations, Inc., Docket No. 50-271, Vermont Yankee Nuclear Power Station (VY), Vernon, Vermont

Date of amendment request: May 1, 2017. A publicly-available version is in ADAMS under Accession No. ML17124A429. This request was supplemented by information submitted by the licensee by letter dated June 13, 2017 (ADAMS Accession No. ML17166A234).

Description of amendment request: The proposed amendment would extend the scheduled implementation date for Milestone 8 of the VY Cyber Security Plan (CSP) to July 31, 2019, to support the decommissioning status of VY.

Basis for proposed no significant hazards consideration determination: As required by 10 CFR 50.91(a), the licensee has provided its analysis of the issue of no significant hazards consideration, which is presented below:

1. Does the proposed change involve a significant increase in the probability or consequences of an accident previously evaluated?

Response: No.

The proposed change to the CSP implementation schedule is administrative in nature.

This proposed change does not alter accident analysis assumptions, add any initiators, or affect the function of facility systems or the manner in which systems are operated, maintained, modified, tested, or Inspected. The proposed change does not require any facility modifications which affect the performance capability of the structures, systems, and components (SSCs) relied upon to mitigate the consequences of postulated accidents and has no impact on the probability or consequences of an accident previously evaluated.

Therefore, the proposed changes do not involve a significant increase in the probability or consequences of an accident previously evaluated.

2. Does the proposed change create the possibility of a new or different kind of accident from any accident previously evaluated?

Response: No.

The proposed change to the CSP implementation schedule is administrative in nature.

This proposed change does not alter accident analysis assumptions, add any initiators, or affect the function of facility systems or the manner in which systems are operated, maintained, modified, tested, or inspected. The proposed change does not require any facility modifications which affect the performance capability of the SSCs relied upon to mitigate the consequences of postulated accidents and does not create the possibility of a new or different kind of accident from any accident previously evaluated.

Therefore, the proposed change does not create the possibility of a new or different kind of accident from any previously evaluated.

3. Does the proposed change involve a significant reduction in a margin of safety?

Response: No.

Plant safety margins are established through limiting conditions for operation, limiting safety system settings, and safety limits specified In the Technical Specifications. The proposed change to the CSP implementation schedule is administrative in nature. In addition, the milestone date delay for full implementation of the CSP has no substantive impact because other measures, including completing and maintaining interim Milestones 1 through 7, have been taken which provide adequate protection during this period of time. Because there is no change to established safety margins as a result of this proposed change, no significant reduction in a margin of safety is involved.

Therefore the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Ms. Susan Raimo, Senior Counsel, Entergy Services, Inc., 101 Constitution Avenue NW., Suite 200 East, Washington, DC 20001.

NRC Branch Chief: Bruce Watson.

FirstEnergy Nuclear Operating Company, Docket No. 50-440, Perry Nuclear Power Plant, Unit No. 1, Lake County, Ohio

Date of amendment request: June 20, 2017. A publicly-available version is in ADAMS under Accession No. ML17171A301.

Description of amendment request: The proposed amendment would revise a surveillance requirement (SR) in Technical Specification 3.8.1, “AC Sources—Operating,” to clarify that the intent of the surveillance is to verify that only the non-critical diesel generator (DG) trips are bypassed on an emergency core cooling system initiation signal. The proposed changes are consistent with Technical Specification Task Force Improved Standard Technical Specifications Change Traveler 400-A, Revision 1, “Clarify SR on Bypass of DG Automatic Trips.”

Basis for proposed no significant hazards consideration determination: As required by 10 CFR 50.91(a), the licensee has provided its analysis of the issue of no significant hazards consideration, which is presented below:

1. Does the proposed amendment involve a significant increase in the probability or consequences of an accident previously evaluated?

Response: No.

The proposed change clarifies the purpose of SR 3.8.1.13, which is to verify that non-critical automatic diesel generator (DG) trips are bypassed in an accident. The DG automatic trips and their bypasses are not initiators of any accident previously evaluated. Therefore, the probability of any accident is not significantly increased. The function of the DGs in mitigating accidents is not changed. The revised SR continues to ensure the DGs will operate as assumed in the accident analyses. Therefore, the consequences of any accident previously evaluated are not affected.

Therefore, the proposed change does not involve a significant increase in the probability or consequences of an accident previously evaluated.

2. Does the proposed amendment create the possibility of a new or different kind of accident from any accident previously evaluated?

Response: No.

The proposed change clarifies the purpose of SR 3.8.1.13, which is to verify that non-critical automatic DG trips are bypassed in an accident. The proposed change does not involve a physical alteration of the plant (no new or different type of equipment will be installed) or a change in the methods governing normal plant operation.

Thus, this change does not create the possibility of a new or different kind of accident from any accident previously evaluated.

3. Does the proposed amendment involve a significant reduction in a margin of safety?

Response: No.

The proposed change clarifies the purpose of SR 3.8.1.13, which is to verify that non-critical automatic DG trips are bypassed in an accident. Performance of the clarified SR will verify that the non-critical trips are bypassed on simulated ECCS [emergency core cooling system] actuation signals to ensure that actuation of a non-critical trip does not take a DG out of service during an emergency. The bypassing of the non-critical automatic DG trips will maintain DG availability during an emergency so that it will be able to perform its assumed safety function. As such, the safety function of the DGs remains unaffected, so the change does not affect the margin of safety.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: David W. Jenkins, Attorney, FirstEnergy Corporation, Mail Stop A-GO-15, 76 South Main Street, Akron, OH 44308.

NRC Branch Chief: David J. Wrona.

Omaha Public Power District, Docket No. 50-285, Fort Calhoun Station (FCS), Unit No. 1, Washington County, Nebraska

Date of amendment request: June 9, 2017. A publicly-available version is in ADAMS under Accession No. ML17160A405.

Description of amendment request: The proposed amendment would delete Technical Specifications (TSs) 2.8.3(6), “Spent Fuel Cask Loading,” and associated Figure 2-11, “Limiting Burnup Criteria for Acceptable Storage in Spent Fuel Cask”; TS 3.2 Table 3-5(24), “Spent Fuel Cask Loading”; TS 4.3.1.3, Design Features associated with spent fuel casks; and portions of TS 3.2, Table 3-4(5), Footnote (4) on boron concentration associated with cask loading. The deletion of the TS sections will bring the FCS TSs into conformance with 10 CFR 50.68(c) “Criticality accident requirements.”

Basis for proposed no significant hazards consideration determination: As required by 10 CFR 50.91(a), the licensee has provided its analysis of the issue of no significant hazards consideration, which is presented below:

1. Does the proposed amendment involve a significant increase in the probability or consequences of an accident previously evaluated?

Response: No.

The proposed change simply bring[s] the [station's] technical specifications into compliance with the current version of 10 CFR 50.68. There is no change to probability or consequences of any accident previously evaluated.

Therefore, the proposed change does not involve a significant increase in the probability or consequences of an accident previously evaluated.

2. Does the proposed amendment create the possibility of a new or different kind of accident from any accident previously evaluated?

Response: No.

The proposed change does not alter [any] safety limits, or safety analysis assumptions associated with the operation of the plant. The proposed change does not introduce any new accident initiators, nor does the change reduce or adversely affect the capabilities of any plant structure or system in the performance of its safety function.

Therefore, the proposed change does not create the possibility of a new or different kind of accident from any previously evaluated.

3. Does the proposed amendment involve a significant reduction in a margin of safety?

Response: No.

The proposed change does not alter the manner in which safety limits or limiting safety system settings are determined. The safety analysis acceptance criteria are not affected by the proposed change. The proposed change does not change the design function of any equipment assumed to operate in the event of an accident.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: David A. Repka, Esq., Winston & Strawn, 1700 K Street NW., Washington, DC 20006-3817.

NRC Branch Chief: Douglas A. Broaddus.

Omaha Public Power District, Docket No. 50-285, Fort Calhoun Station (FCS), Unit No. 1, Washington County, Nebraska

Date of amendment request: June 16, 2017. A publicly-available version is in ADAMS under Accession No. ML17167A057.

Description of amendment request: The proposed amendment would remove the FCS Cyber Security Plan (CSP) from the FCS Operating License Condition.

Basis for proposed no significant hazards consideration determination: As required by 10 CFR 50.91(a), the licensee has provided its analysis of the issue of no significant hazards consideration, which is presented below:

1. Does the proposed amendment involve a significant increase in the probability or consequences of an accident previously evaluated?

Response: No.

The proposed change to remove the [FCS CSP] requirement does not alter accident analysis assumptions, add any initiators, or affect the function of plant systems or the manner in which systems are operated, maintained, modified, tested, or inspected. The proposed change does not require any plant modifications which affect the performance capability of the structures, systems, and components [SSCs] relied upon to mitigate the consequences of postulated accidents, and has no impact on the probability or consequences of an accident previously evaluated.

Therefore, the proposed change does not involve a significant increase in the probability or consequences of an accident previously evaluated.

2. Does the proposed amendment create the possibility of a new or different kind of accident from any accident previously evaluated?

Response: No.

The proposed change to remove the [FCS CSP] requirement does not alter accident analysis assumptions, add any initiators, or affect the function of plant systems or the manner in which systems are operated, maintained, modified, tested, or inspected. The proposed change does not require any plant modifications which affect the performance capability of the [SSCs] relied upon to mitigate the consequences of postulated accidents, and has no impact on the probability or consequences of an accident previously evaluated.

Therefore, the proposed change does not create the possibility of a new or different kind of accident from any previously evaluated.

3. Does the proposed amendment involve a significant reduction in a margin of safety?

Response: No.

The amendment proposes the elimination of the CSP as set forth in the CSP Implementation Schedule and associated regulatory commitments. The elimination of the CSP does not involve modifications to any safety-related SSCs. The proposed amendment is based on the comparison of the risks at an operating nuclear power reactor as opposed to a nuclear power reactor that has permanently ceased operations and has removed all fuel from the reactor vessel. The spectrum of possible accidents are significantly fewer and the risk of an offsite radiological release is significantly lower for a permanently defueled reactor.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: David A. Repka, Esq., Winston & Strawn, 1700 K Street NW., Washington, DC 20006-3817.

NRC Branch Chief: Douglas A. Broaddus.

Southern Nuclear Operating Company, Inc., Docket Nos. 52-025 and 52-026, Vogtle Electric Generating Plant (VEGP), Units 3 and 4, Burke County, Georgia

Date of amendment request: June 23, 2017. A publicly-available version is in ADAMS under Accession No. ML17179A171.

Description of amendment request: The requested amendment requires changes to the Updated Final Safety Analysis Report (UFSAR) in the form of departures from the plant-specific Design Control Document Tier 2 information and involves changes to the VEGP Units 3 and 4 COL Appendix A, Technical Specifications (TS). Specifically, the proposed changes revise plant-specific Tier 2 information to add the time delay assumed in the safety analysis for the reactor trip on a safeguards actuation (“S”) signal to UFSAR Table 15.0-4a. This is also reflected in the proposed revision to TS 3.3.4, Reactor Trip System (RTS) Engineered Safety Feature Actuation System (ESFAS) Instrumentation, to add a surveillance requirement to verify the RTS response time for this “S” signal.

The request also includes proposed changes to TS 3.3.7, RTS Trip Actuation Devices, to clarify that the requirements for reactor trip breaker (RTB) undervoltage and shunt trip mechanisms apply only to in-service RTBs. In addition, the request includes proposed changes to TS 3.3.9, ESFAS Manual Initiation, to correct the nomenclature for the Chemical and Volume Control System, which is advertently stated as the Chemical Volume and Control System.

Basis for proposed no significant hazards consideration determination: As required by 10 CFR 50.91(a), the licensee has provided its analysis of the issue of no significant hazards consideration, which is presented below NRC staff edits in square brackets:

1. Does the proposed amendment involve a significant increase in the probability or consequences of an accident previously evaluated?

Response: No.

The changes do not involve an interface with any [structure, system, and component (SSC)] accident initiator or initiating sequence of events, and thus, the probabilities of the accidents evaluated in the plant-specific UFSAR are not affected. The proposed changes do not involve a change to any mitigation sequence or the predicted radiological releases due to postulated accident conditions, thus, the consequences of the accidents evaluated in the UFSAR are not affected.

Therefore, the proposed amendment does not involve a significant increase in the probability or consequences of an accident previously evaluated.

2. Does the proposed amendment create the possibility of a new or different kind of accident from any accident previously evaluated?

Response: No.

The proposed changes do not adversely affect any system or design function or equipment qualification as the change does not modify any SSCs that prevent safety functions from being performed. The changes do not introduce a new failure mode, malfunction or sequence of events that could adversely affect safety or safety-related equipment.

Therefore, the proposed amendment does not create the possibility of a new or different kind of accident from any accident previously evaluated.

3. Does the proposed amendment involve a significant reduction in a margin of safety?

Response: No.

The proposed changes would not affect any safety-related design code, function, design analysis, safety analysis input or result, or existing design/safety margin. No safety analysis or design basis acceptance limit/criterion is challenged or exceeded by the requested changes.

Therefore, the proposed amendment does not involve a significant reduction in a margin of safety.

The NRC staff has reviewed the licensee's analysis and, based on this review, it appears that the three standards of 10 CFR 50.92(c) are satisfied. Therefore, the NRC staff proposes to determine that the amendment request involves no significant hazards consideration.

Attorney for licensee: Mr. M. Stanford Blanton, Balch & Bingham LLP, 1710 Sixth Avenue North Birmingham, AL 35203-2015.

NRC Branch Chief: Jennifer Dixon-Herrity.

III. Notice of Issuance of Amendments to Facility Operating Licenses and Combined Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR chapter I, which are set forth in the license amendment.

A notice of consideration of issuance of amendment to facility operating license or combined license, as applicable, proposed no significant hazards consideration determination, and opportunity for a hearing in connection with these actions, was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action see (1) the applications for amendment, (2) the amendment, and (3) the Commission's related letter, Safety Evaluation and/or Environmental Assessment as indicated. All of these items can be accessed as described in the “Obtaining Information and Submitting Comments” section of this document.

Arizona Public Service Company, et al., Docket Nos. STN 50-528, STN 50-529, and STN 50-530, Palo Verde Nuclear Generating Station (PVNGS), Units 1, 2, and 3, Maricopa County, Arizona

Date of application for amendment: November 25, 2015, as supplemented by letters dated January 29, June 30, October 6, November 9, and November 23, 2016; and March 3 and May 24, 2017.

Brief Description of amendment: The amendments revised the Technical Specifications (TSs) for PVNGS, by modifying the requirements to incorporate the results of an updated criticality safety analysis for both new and spent fuel storage.

Date of issuance: July 28, 2017.

Effective date: As of the date of issuance and shall be implemented within 90 days from the date of issuance.

Amendment Nos.: Unit 1—203, Unit 2—203, and Unit 3—203. A publicly-available version is in ADAMS under Accession No. ML17188A412; documents related to these amendments are listed in the Safety Evaluation enclosed with the amendments.

Renewed Facility Operating License Nos. NPF-41, NPF-51, and NPF-74: The amendments revised the Operating Licenses and TSs.

Date of initial notice in Federal Register: April 5, 2016 (81 FR 19644). The supplements dated June 30, October 6, November 9, and November 23, 2016; and March 3 and May 24, 2017, provided additional information that clarified the application, did not expand the scope of the application as originally noticed, and did not change the NRC staff's original proposed no significant hazards consideration determination as published in the Federal Register.

The Commission's related evaluation of the amendments is contained in a Safety Evaluation dated July 28, 2017.

No significant hazards consideration comments received: No.

Duke Energy Carolinas, LLC, Docket Nos. 50-413 and 50-414, Catawba Nuclear Station, Units 1 and 2, York County, South Carolina

Date of application for amendments: December 15, 2016.

Brief description of amendments: The amendments modified Technical Specification (TS) 3.6.3, “Containment Isolation Valves,” to add a Note to TS Limiting Condition for Operation (LCO) 3.6.3 Required Actions A.2, C.2, and E.2 to allow isolation devices that are locked, sealed, or otherwise secured to be verified by use of administrative means. The changes are consistent with NRC-approved Technical Specifications Task Force (TSTF) Traveler TSTF-269-A, Revision 2, “Allow administrative means of position verification for locked or sealed valves.”

Date of issuance: July 21, 2017.

Effective date: These license amendments are effective as of their date of issuance and shall be implemented within 120 days of issuance.

Amendment Nos.: 290 and 286. A publicly available version is in ADAMS under Accession No. ML17165A441; documents related to these amendments are listed in the Safety Evaluation enclosed with the amendments.

Renewed Facility Operating License Nos. NPF-35 and NPF-52: Amendments revised the licenses and TSs.

Date of initial notice in Federal Register: April 25, 2017 (82 FR 19098).

The Commission's related evaluation of the amendments is contained in a Safety Evaluation dated July 21, 2017.

No significant hazards consideration comments received: No.

Duke Energy Carolinas, LLC, Docket Nos. 50-413 and 50-414, Catawba Nuclear Station, Units 1 and 2, York County, South Carolina

Date of application for amendments: December 15, 2016.

Brief description of amendments: The amendments modified Technical Specification (TS) 3.1.8, “PHYSICS TESTS Exceptions,” to allow the numbers of channels required by the Limiting Condition of Operation (LCO) section of TS 3.3.1, “Reactor Trip System (RTS) Instrumentation,” to be reduced from “4” to “3” to allow one nuclear instrumentation channel to be used as an input to the reactivity computer for physics testing without placing the nuclear instrumentation channel in a tripped condition. The changes are consistent with Technical Specifications Task Force (TSTF) Traveler TSTF-315-A, Revision 0, “Reduce plant trips due to spurious signals to the NIS [Nuclear Instrumentation System] during physics testing.”

Date of issuance: July 26, 2017.

Effective date: These license amendments are effective as of its date of issuance and shall be implemented within 120 days of issuance.

Amendment Nos.: 291 (Unit 1) and 287 (Unit 2). A publicly-available version is in ADAMS under Accession No. ML17172A428; documents related to these amendments are listed in the Safety Evaluation enclosed with the amendments.

Renewed Facility Operating License Nos. NPF-35 and NPF-52: Amendments revised the licenses and TSs.

Date of initial notice in Federal Register: April 25, 2017 (82 FR 19098).

The Commission's related evaluation of the amendments is contained in a Safety Evaluation dated July 26, 2017.

No significant hazards consideration comments received: No.

Energy Northwest, Docket No. 50-397, Columbia Generating Station (Columbia), Benton County, Washington

Date of application for amendment: July 14, 2016, as supplemented by letter dated July 5, 2017.

Brief description of amendment: The amendment changed the Columbia Technical Specifications (TSs) consistent with TS Task Force (TSTF) Standard Technical Specifications Change Traveler TSTF-545, Revision 3, “TS Inservice Testing Program Removal & Clarify SR [Surveillance Requirement] Usage Rule Application to Section 5.5 Testing,” dated October 21, 2015.

Date of issuance: July 24, 2017.

Effective date: As of its date of issuance and shall be implemented within 60 days from the date of issuance.

Amendment No.: 243. A publicly-available version is in ADAMS under Accession No. ML17187A257; documents related to this amendment are listed in the Safety Evaluation enclosed with the amendment.

Renewed Facility Operating License No. NPF-21: The amendment revised the Facility Operating License and TSs.

Date of initial notice in Federal Register: September 27, 2016 (81 FR 66304). The supplemental letter dated July 5, 2017, provided additional information that clarified the application, did not expand the scope of the application as originally noticed, and did not change the staff's original proposed no significant hazards consideration determination as published in the Federal Register.

The Commission's related evaluation of the amendment is contained in a Safety Evaluation dated July 24, 2017.

No significant hazards consideration comments received: No.

Entergy Operations, Inc., Docket No. 50-382, Waterford Steam Electric Station, Unit 3 (Waterford 3), St. Charles Parish, Louisiana

Date of amendment request: July 25, 2016.

Brief description of amendment: The amendment changed the Waterford 3 Technical Specifications (TSs) consistent with Technical Specifications Task Force (TSTF) Standard Technical Specifications Change Traveler TSTF-545, Revision 3, “TS Inservice Testing Program Removal & Clarify SR [Surveillance Requirement] Usage Rule Application to Section 5.5 Testing,” dated October 21, 2015.

Date of issuance: July 27, 2017.

Effective date: As of the date of issuance and shall be implemented 90 days from the date of issuance.

Amendment No.: 250. A publicly-available version is in ADAMS under Accession No. ML17192A007; documents related to this amendment are listed in the Safety Evaluation enclosed with the amendment.

Facility Operating License No. NPF-38: The amendment revised the Facility Operating License and TSs.

Date of initial notice in Federal Register: November 8, 2016 (81 FR 78647).

The Commission's related evaluation of the amendment is contained in a Safety Evaluation dated July 27, 2017.

No significant hazards consideration comments received: No.

NextEra Energy, Point Beach, LLC, Docket No. 50-266, Point Beach Nuclear Plant (PBNP), Unit 1, Town of Two Creeks, Manitowoc County, Wisconsin

Date amendment request: July 29, 2016, as supplemented by letter dated April 20, 2017. Publicly-available versions of these documents are in ADAMS under Accession Nos. ML16237A066 and ML17110A068, respectively.

Brief description of amendments: The amendment consists of changes to the technical specifications (TSs) for PBNP, Unit 1. The amendment makes changes to TS 3.4.13, “RCS Operational LEAKAGE,” TS 5.5.8, “Steam Generator (SG) Program,” and TS 5.6.8, “Steam Generator Tube Inspection Report,” in order to implement the H* (pronounced H-star) alternate repair criteria on a permanent basis.

Date of issuance: July 27, 2017.

Effective date: As of the date of issuance and shall be implemented within 90 days of issuance.

Amendment No.: 260. A publicly-available version is in ADAMS under Accession No. ML17159A778; documents related to this amendment are listed in the Safety Evaluation enclosed with the amendment.

Renewed Facility Operating License No. DPR-24: Amendment revised the Facility Operating License and TSs.

Date of initial notice in Federal Register: December 6, 2016 (81 FR 87961). The supplemental letter dated April 20, 2017, provided additional information that clarified the application, did not expand the scope of the application as originally noticed, and did not change the staff's original proposed no significant hazards consideration determination as published in the Federal Register.

The Commission's related evaluation of the amendment is contained in a Safety Evaluation dated July 27, 2017.

No significant hazards consideration comments received: No.

Omaha Public Power District, Docket No. 50-285, Fort Calhoun Station (FCS), Unit 1, Washington County, Nebraska

Date of amendment request: September 2, 2016, as supplemented by letters dated March 3 and April 5, 2017.

Brief description of amendment: The amendment revised the Nuclear Radiological Emergency Response Plan for FCS for the plant condition following permanent cessation of power operations and defueling to reflect changes in the shift staffing and Emergency Response Organization staffing.

Date of issuance: July 27, 2017.

Effective date: As of the date of issuance and shall be implemented within 60 days from the date of issuance.

Amendment No.: 291. A publicly-available version is in ADAMS under Accession No. ML17123A348; documents related to this amendment are listed in the Safety Evaluation enclosed with the amendment.

Renewed Facility Operating License No. DPR-40: The amendment revised the license.

Date of initial notice in Federal Register: November 8, 2016 (81 FR 78650). The supplemental letters dated March 3 and April 5, 2017, provided additional information that clarified the application, did not expand the scope of the application as originally noticed, and did not change the staff's proposed no significant hazards consideration determination as published in the Federal Register.

The Commission's related evaluation of the amendment is contained in a Safety Evaluation dated July 27, 2017.

No significant hazards consideration comments received: No.

Omaha Public Power District, Docket No. 50-285, Fort Calhoun Station (FCS), Unit 1, Washington County, Nebraska

Date of amendment request: September 28, 2016, as supplemented by letter dated April 27, 2017.

Brief description of amendment: The amendment revised the Technical Specifications (TSs) to make administrative changes to align staffing for permanently defueled condition at FCS.

Date of issuance: July 28, 2017.

Effective date: As of the date of issuance and shall be implemented within 90 days from the date of issuance.

Amendment No.: 292. A publicly-available version is in ADAMS under Accession No. ML17165A465; documents related to this amendment are listed in the Safety Evaluation enclosed with the amendment.

Renewed Facility Operating License No. DPR-40: The amendment revised the Renewed Facility Operating License and TSs.

Date of initial notice in Federal Register: November 8, 2016 (81 FR 78650).

The supplemental letter dated April 27, 2017, provided additional information that clarified the application, did not expand the scope of the application as originally noticed, and did not change the original proposed no significant hazards consideration determination as published in the Federal Register.

The Commission's related evaluation of the amendment is contained in a Safety Evaluation dated July 28, 2017.

No significant hazards consideration comments received: No.

Southern Nuclear Operating Company, Docket Nos. 52-025 and 52-026, Vogtle Electric Generating Plant (VEGP), Units 3 and 4, Burke County, Georgia

Date of amendment request: January 20, 2017, and supplemented by letter dated June 6, 2017.

Description of amendment: The amendments consist of changes to the VEGP Units 3 and 4 Updated Final Safety Analysis Report (UFSAR) in the form of departures from plant-specific Design Control Document Tier 2 information, Combined License (COL) Appendix A Technical Specifications, and COL Appendix C information. The departures consist of in-containment refueling water storage tank (IRWST) minimum volume changes in plant-specific UFSAR Table 14.3-2, COL Appendix A Technical Specifications 3.5.6, 3.5.7 and 3.5.8 and Surveillance Requirements 3.5.6.2 and 3.5.8.2 and COL Appendix C (and associated plant-specific Tier 1) Table 2.2.3-4. The changes restore the desired consistency of these sections with the UFSAR IRWST minimum volume value in other locations.

Date of issuance: July 6, 2017.

Effective date: As of the date of issuance and shall be implemented within 30 days of issuance.

Amendment Nos.: 81 and 80. A publicly-available version is in ADAMS under Accession No. ML17171A137; documents related to this amendment are listed in the Safety Evaluation enclosed with the amendment.

Facility Combined Licenses No. NPF-91 and NPF-92: Amendment revised the Facility Combined Licenses.

Date of initial notice in Federal Register: March 14, 2017 (82 FR 13662). The supplemental letter dated June 6, 2017, provided additional information that clarified the application, did not expand the scope of the application request as originally noticed, and did not change the staff's original proposed no significant hazards consideration determination as published in the Federal Register.

The Commission's related evaluation of the amendment is contained in the Safety Evaluation dated July 6, 2017.

No significant hazards consideration comments received: No.

Susquehanna Nuclear, LLC, Docket Nos. 50-387 and 50-388, Susquehanna Steam Electric Station, Units 1 and 2, Luzerne County, Pennsylvania

Date of amendment request: February 1, 2017, as supplemented by letter dated May 17, 2017.

Brief description of amendments: The amendments revised Technical Specification (TS) 3.6.4.3, “Standby Gas Treatment (SGT) System,” and TS 3.7.3, “Control Room Emergency Outside Air Supply (CREOAS) System,” by changing the run time of monthly surveillance requirements for the standby gas treatment and control room emergency outside air supply systems from 10 hours to 15 minutes. This change is consistent with Technical Specifications Task Force (TSTF) Traveler TSTF-522, Revision 0, “Revise Ventilation System Surveillance Requirements to Operate for 10 hours per Month,” with minor variations. The notice of availability and model safety evaluation of TSTF-522, Revision 0, were published in the Federal Register on September 20, 2012 (77 FR 58421).

Date of issuance: July 28, 2017.

Effective date: As of the date of issuance and shall be implemented within 60 days of issuance.

Amendment Nos.: 268 (Unit 1) and 250 (Unit 2). A publicly-available version is in ADAMS under Accession No. ML17187A297; documents related to these amendments are listed in the Safety Evaluation enclosed with the amendments.

Renewed Facility Operating License Nos. NPF-14 and NPF-22: The amendments revised the Renewed Facility Operating Licenses and TSs.

Date of initial notice in Federal Register: April 11, 2017 (82 FR 17461). The supplemental letter dated May 17, 2017, provided additional information that clarified the application, did not expand the scope of the application as originally noticed, and did not change the NRC staff's original proposed no significant hazards consideration determination as published in the Federal Register.

The Commission's related evaluation of the amendments is contained in a Safety Evaluation dated July 28, 2017.

No significant hazards consideration comments received: No.

Virginia Electric and Power Company, Docket Nos. 50-280 and 50-281, Surry Power Station, Units No. 1 and No. 2, Surry County, Virginia

Date of amendment request: July 14, 2016, as supplemented by letters dated January 31, 2017, March 1, 2017 and March 10, 2017.

Brief description of amendments: The amendments would extend the Technical Specification (TS) 3.14.B allowed outage time for one inoperable emergency service water (ESW) pump from 7 to 14 days to provide operational flexibility for ESW pump maintenance and repairs.

Date of issuance: July 28, 2017.

Effective date: As of the date of issuance and shall be implemented within 60 days of issuance.

Amendment Nos.: 290 and 290. A publicly-available version is in ADAMS under Accession No. ML17170A183; documents related to these amendments are listed in the Safety Evaluation enclosed with the amendments.

Facility Operating License No. NPF-4 and NPF-7: Amendments revised the Facility Operating Licenses and TSs.

Date of initial notice in Federal Register: October 25, 2016 (81 FR 73443). The letters dated January 31, 2017, March 1, 2017 and March 10, 2017, provided additional information that clarified the application, did not expand the scope of the application as originally noticed, and did not change the staff's original proposed no significant hazards consideration determination as published in the Federal Register.

The Commission's related evaluation of the amendment is contained in a Safety Evaluation dated July 28, 2017.

No significant hazards consideration comments received: No.

Dated at Rockville, Maryland, this 4th day of August 2017.
For the Nuclear Regulatory Commission.
Anne T. Boland,
Director, Division of Operating Reactor Licensing, Office of Nuclear Reactor Regulation.

[FR Doc. 2017-16998 Filed 8-14-17; 8:45 am]

BILLING CODE 7590-01-P